DEPARTMENT OF COMMERCE

National Oceanic and Atmospheric Administration

RIN 0648-XA829

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on December 13-14, 2011. The Council will convene on Tuesday, December 13, 2011 from 9 a.m. to 5 p.m., and the Administrative Committee will meet from 5:15 p.m. to 6 p.m. The Council will reconvene on Wednesday, December 14, 2011 from 8:30 a.m. to 5 p.m.

ADDRESSES: The meetings will be held at Marriott Frenchman's Reef Hotel, 5 Estate Bakkeroe, St. Thomas, USVI.

FOR FURTHER INFORMATION CONTACT: Caribbean Fishery Management Council, 268 Muñoz Rivera Avenue, Suite 1108, San Juan, Puerto Rico 00918-1920; telephone: (787) 766-5926.

SUPPLEMENTARY INFORMATION: The Council will hold its 141st regular Council meeting to discuss the items contained in the following agenda:

December 13, 2011—9 a.m. to 5 p.m.

• Call to Order.

• Adoption of Agenda.

• Consideration of the 140th Council Meeting Verbatim Transcriptions.

• Executive Director's Report.

• Catch Share Project Update—Flavia Tonioli.

• Parrotfish Size and Bag Limit—Mike Larkin.

• USVI Traps Reduction Project Report.

• SSC Meeting Report:

—ERAEF.

—Legal Opinion SSC Role.

—Other Issues.

Public Comment Period—(5) Five-Minutes Presentations

December 13, 2011—5:15 p.m.-6 p.m.

• Administrative Committee Meeting (Closed Session):

—Budget Update FY 2011/12.

—International Queen Conch Initiative Conference 2012 (IQCI).

—Other Business.

December 14, 2011—8:30 a.m.-5 p.m.

• SAFMC Information and Education Overview—Utilizing the Advisory Panel Process and Partnerships—Kim Iverson.

• Encouraging Effective Stakeholder Participation in the Fisheries Management Process—Emily Muelhston.

• Yellowtail Update and Report on Data Relevant to ACLs in St. Thomas—St. John—David Olsen.

• Queen Conch Compatibility Issues.

• Compatibility Issues among Bajo de Sico, Tourmaline and Abril la Sierra.

• Highly Migratory Species Fishery Management Update—Peter Cooper and Delisse Ortíz:

—Amendment 4-6 to the Consolidated HMS FMP.

—HMS Electronic Dealer Reporting System (eDealer).

Enforcement Reports

—Puerto Rico—DNER.

—U.S. Virgin Islands—DPNR.

—NOAA/NMFS.

—U.S. Coast Guard.

• Administrative Committee Recommendations.

• Meetings Attended by Council Members and Staff.

Public Comment Period (5-Minutes Presentations)

• Other Business.

• Next Council Meeting.

The established times for addressing items on the agenda may be adjusted as necessary to accommodate the timely completion of discussion relevant to the agenda items. To further accommodate discussion and completion of all items on the agenda, the meeting may be extended from, or completed prior to the date established in this notice.

The meetings are open to the public, and will be conducted in English. Fishers and other interested persons are invited to attend and participate with oral or written statements regarding agenda issues.

Special Accommodations

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone (787) 766-5926, at least 5 days prior to the meeting date.

Dated: November 16, 2011.
Tracey L. Thompson,
Acting Director, Office of Sustainable Fisheries, National Marine Fisheries Service.

[FR Doc. 2011-29997 Filed 11-18-11; 8:45 am]

BILLING CODE 3510-22-P